DEPARTMENT OF COMMERCE

National Oceanic and Atmospheric Administration

[I.D. 032504B]

Taking and Importing of Marine Mammals

AGENCY: National Marine Fisheries Service (NMFS), National Oceanic and Atmospheric Administration (NOAA), Commerce.

ACTION: Notice of affirmative finding.

SUMMARY: The Assistant Administrator for Fisheries, NMFS, (Assistant Administrator) renewed the affirmative finding for the Republicof El Salvador under the Marine Mammal Protection Act (MMPA). This affirmative finding will allow yellowfin tuna harvested in the eastern tropical Pacific Ocean (ETP) in compliance with the International Dolphin Conservation Program (IDCP) by El Salvadorian-flag purse seine vessels or purse seine vessels operating under El Salvador's jurisdiction to continue to be imported into the United States. The affirmative finding was basedon review of documentary evidence submitted by the Republic of El Salvadorand obtained from the Inter-American Tropical Tuna Commission (IATTC) and the Department of State.

DATES: Effective April 8, 2004, through March 31, 2005.

FOR FURTHER INFORMATION CONTACT: Regional Administrator, Southwest Region, NMFS, 501 West Ocean Boulevard, Suite 4200, Long Beach, California, 90802-4213; Phone 562-980-4000; Fax 562-980-4018.

SUPPLEMENTARY INFORMATION: The MMPA, 16 U.S.C. 1361et seq., as amended by the International Dolphin Conservation Program Act (IDCPA) (Public Law 105-42), allows the entry into the United States of yellowfin tuna harvested by purse seine vessels in the ETP under certain conditions. If requested by the harvesting nation, the Assistant Administrator will determine whether to make an affirmativefinding based upon documentary evidence provided by the government of the harvesting nation, the IATTC, or the Department of State. A finding will remain valid for 1 year (April 1 through March 31) or for such other period as the Assistant Administrator may determine. An affirmative finding applies to tuna and tuna products that were harvested in the ETP by purse seine vessels of the nation, and applies to any tuna harvested in the ETP purse seine fishery after March 3, 1999, the effective date of the IDCPA.

The affirmative finding process requires that the harvesting nation meetseveral conditions related to compliance with the IDCP. A nation may opt to provide information regarding compliance with the IDCP directly to NMFS on an annual basis or authorize the IATTC to release the information to NMFS in years when NMFS will conduct an annual review of the affirmative finding.

An affirmative finding will be terminated, in consultation with the Secretary of State, if the Assistant Administrator determines that the requirements of 50 CFR 216.24(f) are no longer being met or that a nation is consistently failing to take enforcement actions on violations which diminish the effectiveness of the IDCP. Every 5 years, the government of the harvesting nation, must request an affirmative finding and submit the required documentary evidence directly to the Assistant Administrator.

As a part of the affirmative finding process set forth in 50 CFR216.24(f), the Assistant Administrator considered documentary evidence submitted by the Republic of El Salvador and obtained from the IATTC and the Department of State and determined that the requirements under the MMPA to receive an affirmative finding have been met.

After consultation with the Department of State, NMFS renewed theRepublic of El Salvador's affirmative finding allowing the importation into the United States of yellowfin tuna and products derived from yellowfin tuna harvested in the ETP, by El Salvadorian-flag purse seine vessels or vessels under El Salvadorian jurisdiction.

In subsequent years, the Assistant Administrator will determine on an annual basis whether the Republic of El Salvador is meeting the requirements under section 101(a)(2)(B) and (C) of the MMPA. If necessary, documentary evidence may also be requested from the Republic of El Salvador to determine whether the affirmative finding criteria are being met. If the affirmative finding for the Republic of El Salvador is renewed after NMFS's annual review in the years 2005 through 2007, the Republic of El Salvador must submit a new application in early 2008 for an affirmative finding to be effective for the period April 1, 2008, through March 31, 2009, and the subsequent 4 years.

Dated: April 13, 2004.
Wanda L. Cain,
Acting Director, Office of Protected Resources, National Marine Fisheries Service.

[FR Doc. 04-8770 Filed 4-16-04; 8:45 am]

BILLING CODE 3510-22-S